DEPARTMENT OF COMMERCE

Foreign-Trade Zones Board

[B-49-2013]

Foreign-Trade Zone 40—Cleveland, Ohio; Application for Reorganization and Expansion Under Alternative Site Framework

An application has been submitted to the Foreign-Trade Zones (FTZ) Board by the Cleveland-Cuyahoga County Port Authority, grantee of FTZ 40, requesting authority to reorganize and expand the zone under the alternative site framework (ASF) adopted by the FTZ Board (15 CFR 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on May 17, 2013.

FTZ 40 was approved by the FTZ Board on September 29, 1978 (Board Order 135, 43 FR 46886, 10-11-1978) and expanded on June 18, 1982 (Board Order 194, 47 FR 27579, 6-25-1982), April 10, 1992 (Board Order 574, 57 FR 13694, 4-17-1992), February 10, 1997 (Board Order 870, 62 FR 7750, 2-20-1997), June 11, 1999 (Board Order 1040, 64 FR 33242, 6-22-1999), April 15, 2002 (Board Order 1224, 67 FR 20087, 4-24-2002), August 21, 2003 (Board Orders 1289, 1290 and 1295, 68 FR 52384-52385, 9-3-2003), March 11, 2004 (Board Order 1320, 69 FR 13283, 3-22-2004), March 24, 2004 (Board Order 1322, 69 FR 17642, 4-5-2004), September 10, 2004 (Board Order 1351, 69 FR 56063, 9-17-2004), April 15, 2005 (Board Orders 1384, 1385 and 1386, 70 FR 21736, 4-27-2005), December 9, 2005 (Board Order 1425, 70 FR 76023, 12-22-2005) and December 21, 2005 (Board Orders 1428, 1429 and 1430, 70 FR 77376, 12-30-2005).

The current zone includes the following sites: Site 1 (68 acres)—Port of Cleveland Complex, W. 9th St. at Cleveland Harbor, Lake Erie, Cleveland; Site 2 (172 acres)—Cleveland Business Park, Grayton/Brook Park Roads, Cleveland; Site 3 (450 acres)—Burke Lakefront Airport, 1501 North Marginal Road, Cleveland; Site 4 (324 acres)—Emerald Valley Business Park, Cochran Road and Beaver Meadow Parkway, Glenwillow; Site 5 (17 acres)—Collinwood Industrial Park, South Waterloo Road and East 152nd Street, Cleveland; Site 6 (174 acres)—Strongsville Industrial Park, SR 82 and Lunn Road, Strongsville; Site 7 (13 acres)—East 40th Street, between Kelley Avenue and Perkins Avenue, Cleveland; Site 8 (15 acres)—Frame Properties Industrial Park, 2399 Forman Road, Morgan Township; Site 9 (170 acres)—Harbor Point Business Park, Baumhart Road, Vermillion; Site 10 (42 acres)—Broad Oak Business Park, Broadway Avenue and Golden Parkway Avenue, Oakwood; Site 11 (29 acres)—Ashtabula Distribution Center, 1527 Cook Road, Ashtabula Township; Site 12 (448 acres)—Taylor Woods Commerce Park, Taylor Parkway, North Ridgeville; Site 13 (118 acres)—Solon Business Park, Aurora Road, Solon; Site 14 (45 acres)—Cleveland Bulk Terminal, 5500 Whiskey Island Drive, Cleveland; Site 15 (1,200 acres)—Tow Path Valley Business Park, Dille Road and 14th Street, Cleveland; Site 16 (1,727 acres)—Cleveland Hopkins International Airport, Cleveland; Site 17 (175 acres)—I-X Center, 1 I-X Center Drive, Brook Park; Site 18 (42 acres)—Snow Road Industrial Park, 18901 Snow Road, Brook Park; Site 19 (322 acres)—Park Road Industrial Park, 17601 Brook Park Road, Brook Park; Site 20 (70 acres)—Progress Drive Business Park, 11792 Alameda Drive, Strongsville; Site 21 (212 acres)—Strongsville Commerce Center, Drake and Boston Roads, Strongsville; Site 22 (20 acres)—Oakwood Commerce Center, 21500 Alexander Road, Oakwood; and, Site 23 (8 acres)—Cleveland Processing Center, 4510 E. 71st Street, Cleveland (approved on a temporary basis until 4-30-2014).

The grantee's proposed service area under the ASF would be Cuyahoga, Geauga, Lake and Lorain Counties, Ohio, as described in the application. If approved, the grantee would be able to serve sites throughout the service area based on companies' needs for FTZ designation. The proposed service area is within and adjacent to the Cleveland Customs and Border Protection port of entry.

The applicant is requesting authority to reorganize its existing zone project to include existing Sites 1-22 as “magnet” sites and Site 23 as a usage-driven site. The ASF allows for the possible exemption of one magnet site from the “sunset” time limits that generally apply to sites under the ASF, and the applicant proposes that Site 1 be so exempted. The application would have no impact on FTZ 40's previously authorized subzones.

In accordance with the FTZ Board's regulations, Elizabeth Whiteman of the FTZ Staff is designated examiner to evaluate and analyze the facts and information presented in the application and case record and to report findings and recommendations to the FTZ Board.

Public comment is invited from interested parties. Submissions shall be addressed to the FTZ Board's Executive Secretary at the address below. The closing period for their receipt is July 22, 2013. Rebuttal comments in response to material submitted during the foregoing period may be submitted during the subsequent 15-day period to August 6, 2013.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz. For further information, contact Elizabeth Whiteman at Elizabeth.Whiteman@trade.gov or (202) 482-0473.

Dated: May 17, 2013.
Andrew McGilvray,
Executive Secretary.

[FR Doc. 2013-12360 Filed 5-22-13; 8:45 am]

BILLING CODE 3510-DS-P